DEPARTMENT OF COMMERCE

Census Bureau

2007 Census of Governments Local Government Directory Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 7, 2006.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Stephen Owens, Chief, Government Organization and Special Programs Branch, Governments Division, U.S. Census Bureau, Washington, DC 20233-6800 (301 763-5149).

SUPPLEMENTARY INFORMATION:

I. Abstract

The U.S. Census Bureau plans to request approval of the 2007 Census of Governments Local Government Directory Survey data collection form: Form G-30 (Special District Governments). This form will be used for the following purposes: (1) To produce the official count of local government units in the United States; (2) To obtain descriptive information on the basic characteristics of governments; (3) To identify and delete inactive units; (4) To identify file duplicates and units that were dependent on other governments; and (5) To update and verify the mailing addresses of governments.

The 2007 Census of Governments Local Government Directory Survey consists of two basic content areas: Government organization, and government employment. For government organization we will ask for authorizing legislation, method of governance, web address, services provided, and corrections to the name and address of the government. For government employment we will ask for full-time employees, part-time employees and annual payroll.

II. Method of Collection

Each of the 36,000 special district governments will be sent an appropriate form. Respondents will be asked to verify or correct the name and mailing address of the government, answer the questions on the form, and return the form. Respondents will also be given an option of responding electronically over the internet.

III. Data

OMB Number: None.

Form Number: G-30.

Type of Review: Regular.

Affected Public: Special district governments.

Estimated Number of Respondents: 36,000.

Estimated Time Per Response: 0.25 hours.

Estimated Total Annual Burden Hours: 9,000.

Estimated Total Annual Cost: $180,000.00.

Respondent's Obligation: Voluntary.

Legal Authority: Title 13 United States Code, Section 161.

IV. Request for Comments

Comments are invited on: (a) Whether the proposed collection of information is necessary for the proper performance of the functions of the agency, including whether the information shall have practical utility; (b) The accuracy of the agency's estimate of the burden (including hours and cost) of the proposed collection of information; (c) Ways to enhance the quality, utility, and clarity of the information to be collected; and (d) Ways to minimize the burden of the collection of information on respondents, including through the use of automated collection techniques or other forms of information technology.

Comments submitted in response to this notice will be summarized and/or included in the request for OMB approval of this information collection; they also will become a matter of public record.

Dated: January 31, 2006.
Madeleine Clayton,
Management Analyst, Office of the Chief Information Officer.

[FR Doc. E6-1533 Filed 2-3-06; 8:45 am]

BILLING CODE 3510-07-P